DEPARTMENT OF COMMERCE

Foreign-Trade Zones Board

[Docket 39-2001]

Foreign-Trade Zone 7—Mayaguez, Puerto Rico, Request for Manufacturing Authority, IPR Pharmaceuticals, Inc. (Pharmaceuticals)

An application has been submitted to the Foreign-Trade Zones Board (the Board) by the Puerto Rico Industrial Development Corporation (PRIDCO), grantee of FTZ 7, on behalf of IPR Pharmaceuticals (IPR), requesting authority to manufacture pharmaceutical products under FTZ procedures within FTZ 7—Site L-164-0-63, in Canovanas, Puerto Rico. The application was formally filed on September 18, 2001.

The application requests authority on behalf of IPR to manufacture pharmaceutical products and their intermediates under zone procedures within FTZ 7—Site L-164-0-63. The IPR facility (up to 800 employees) is located at Carr 188, San Isidro Industrial Park, Canovanas, Puerto Rico (5 bldgs., 209,944 sq. ft., on 25.4 acres).

The facility is currently used for the manufacture of pharmaceutical products and their intermediates. The application requests a scope of authority for manufacturing activity conducted under FTZ procedures at the zone site to include general categories of inputs that have recently been approved by the Board for other pharmaceutical plants. They include chemically pure sugars, empty capsules for pharmaceutical use, protein concentrates, natural magnesium phosphates and carbonates, gypsum, anhydrite and plasters, petroleum jelly, paraffin and waxes, sulfuric acid, other inorganic acids or compounds of nonmetals, ammonia, zinc oxide, titanium oxides, fluorides, chlorates, sulfates, salts of oxometallic acids, radioactive chemical elements, compounds of rare earth metals, acyclic hydrocarbons, derivatives of phenols or peroxides, acetals and hemiacetals, phosphoric esters and their salts, diazo-compounds, glands for therapeutic uses, wadding, gauze and bandages, pharmaceutical glaze, hair preparations, lubricating preparations, albumins, prepared glues and adhesives, catalytic preparations, diagnostic or laboratory reagents, prepared binders, acrylic polymers, self-adhesive plates and sheets, other articles of vulcanized rubber, plastic cases, cartons, boxes, printed books, brochures and similar printed matter, carboys, bottles, and flasks, stoppers, caps, and lids, aluminum foil, tin plates and sheets, taps, cocks and valves, and medical instruments and appliances. Materials sourced from abroad represent some 50%-65% of finished product value.

Zone procedures would exempt IPR from Customs duty payments on foreign materials used in production for export. Some 30-40 percent of the plant's shipments are exported. On domestic shipments, the company would be able to defer Customs duty payments on foreign materials, and to choose the duty rate that applies to finished products (duty free-14.2%) instead of the rates otherwise applicable to the foreign input materials (duty free-20%) (noted above). IPR would also exempt duty payments on foreign merchandise that becomes scrap or waste resulting from the production process. FTZ procedures will also help IPR implement a more efficient and cost-effective system for handling Customs requirements because of direct delivery. The application indicates that the savings from zone procedures would help improve IPR's international competitiveness.

In accordance with the Board's regulations, a member of the FTZ staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is November 13, 2001. Rebuttal comments in response to material submitted during the foregoing period may be submitted during the subsequent 5-day period (to November 19, 2001).

A copy of the application and accompanying exhibits will be available for public inspection at the Office of the Foreign-Trade Zones Board's Executive Secretary at address Number 1 listed above, and at the U.S. Department of Commerce Export Assistance Center, 525 F.D. Roosevelt Ave., Suite 905, San Juan, PR 00918.

Dated: September 19, 2001.
Dennis Puccinelli,
Executive Secretary.

[FR Doc. 01-24080 Filed 9-25-01; 8:45 am]

BILLING CODE 3510-DS-P